DEPARTMENT OF ENERGY

Federal Energy Regulatory Commission

[Project No. 4296-010]

Wave Hydro, LLC; Northline Energy, LLC; Notice of Transfer of Exemption

1. By letter filed March 26, 2014, Northline Energy, LLC informed the Commission that the exemption from licensing for the Seneca Hydroelectric Project, FERC No. 4296, originally issued February 17, 1982,¹ has been transferred to Northline Energy, LLC. The project is located on the Seneca River in Onondaga County, New York. The transfer of an exemption does not require Commission approval.

¹ 18 FERC ¶ 62,227, Order Granting Exemption from Licensing of a Small Hydroelectric Project of 5 Megawatts or Less.

2. Northline Energy, LLC, located at 15 School Lane, P.O. Box 656, Au Sable Forks, NY 12912, is now the exemptee of the Seneca Hydroelectric Project, FERC No. 4296.

Dated: April 28, 2014.
Kimberly D. Bose,
Secretary.

[FR Doc. 2014-10095 Filed 5-1-14; 8:45 am]

BILLING CODE 6717-01-P